SMALL BUSINESS ADMINISTRATION

[Declaration of Disaster #3433]

Territory of Guam

As a result of the President's major disaster declaration for Public Assistance on July 5, 2002, and Amendment 1 adding Individual Assistance on July 12, 2002, I find that the Territory Of Guam constitutes a disaster area due to damages caused by Typhoon Chata'an occurring on July 5-6, 2002. Applications for loans for physical damage as a result of this disaster may be filed until the close of business on September10, 2002 and for economic injury until the close of business on April 10, 2003 at the address listed below or other locally announced locations: U.S. Small Business Administration, Disaster Area 4 Office, P.O. Box 13795, Sacramento, CA 95853-4795.

The interest rates are:

| Percent
For Physical Damage:
Homeowners with credit available elsewhere | 6.750
Homeowners without credit available elsewhere | 3.375
Businesses with credit available elsewhere | 7.000
Businesses and non-profit organizations without, credit available elsewhere | 3.500
Others (including non-profit organizations) with credit available elsewhere | 6.375
For Economic Injury: Businesses and small agricultural cooperatives without credit available elsewhere | 3.500

The number assigned to this disaster for physical damage is 343308 and for economic injury the number is 9Q5600.

(Catalog of Federal Domestic Assistance Program Nos. 59002 and 59008)
Dated: July 16, 2002.
Herbert L. Mitchell,
Associate Administrator For Disaster Assistance.

[FR Doc. 02-18518 Filed 7-22-02; 8:45 am]

BILLING CODE 8025-01-P